FEDERAL COMMUNICATIONS COMMISSION

47 CFR Parts 52 and 64

[CG Docket No. 17-59; FCC 18-177]

Advanced Methods To Target and Eliminate Unlawful Robocalls

AGENCY: Federal Communications Commission.

ACTION: Final rule; correction.

SUMMARY: The Federal Communications Commission (Commission) published a document in the Federal Register of March 26, 2019 (84 FR 11226), regarding the establishment of a single, comprehensive database that will contain the most recent permanent disconnection date for toll free numbers and for each number allocated to or ported to each provider that receives North American Numbering Plan U.S. geographic numbers. The document contained references to an incorrect rule section for compliance. This document corrects those inaccurate references.

DATES: This correction is effective April 11, 2019. The compliance dates for the final rule published March 26, 2019, at 84 FR 11226, are corrected as follows: Compliance date: Compliance will not be required for §§ 52.15(f)(1)(ii) and (f)(8), 52.103(d), and 64.1200(l)(1) and (2) until the Commission publishes documents in the Federal Register announcing the compliance dates.

FOR FURTHER INFORMATION CONTACT: Josh Zeldis, Consumer Policy Division, Consumer and Governmental Affairs Bureau (CGB), at (202) 418-0715, email: Josh.Zeldis@fcc.gov.

SUPPLEMENTARY INFORMATION:

Correction

In the Federal Register of March 26, 2019, in FR Doc. 2019-05620, on page 11226, in the first column, the compliance dates are corrected to read as set forth in the DATES section above and the first paragraph of the “Compliance” section in SUPPLEMENTARY INFORMATION is corrected to read:

“Compliance

“The amendments of the Commission's rules as set forth in this document are effective 30 days after publication of a notice in the Federal Register announcing approval by the Office of Management and Budget (OMB). Compliance will not be required for §§ 52.15(f)(1)(ii) and (f)(8), 52.103(d), and 64.1200(l)(1) until after approval by the OMB of information collection requirements contained in §§ 52.15(f)(8) and 64.1200(l)(1). The compliance date for §§ 52.15(f)(1)(ii) and (f)(8), 52.103(d), and 64.1200(l)(1) will be specified in a document published in the Federal Register. Compliance will not be required for § 64.1200(l)(2) until after approval by OMB and the reassigned numbers database administrator is ready to begin accepting reports of the data collected in accordance with § 64.1200(l)(1). The Commission will publish another document in the Federal Register announcing the compliance date for the requirements contained in § 64.1200(l)(2).”

Federal Communications Commission.
Katura Jackson,
Federal Register Liaison Officer, Office of the Secretary.

[FR Doc. 2019-06961 Filed 4-10-19; 8:45 am]

BILLING CODE 6712-01-P